DEPARTMENT OF TRANSPORTATION

Federal Railroad Administration

[Docket No. FRA-2017-0002-N-13]

Proposed Agency Information Collection Activities; Comment Request

AGENCY: Federal Railroad Administration (FRA), Department of Transportation (DOT).

ACTION: Notice and comment request.

SUMMARY: Under the Paperwork Reduction Act of 1995 (PRA), this notice announces that FRA is forwarding the Information Collection Request (ICR) abstracted below to the Office of Management and Budget (OMB) for review and comment. The ICR describes the information collection and its expected burden.

DATES: Comments must be submitted on or before August 17, 2017.

ADDRESSES: Send comments regarding these information collections to the Office of Information and Regulatory Affairs, Office of Management and Budget, 725 17th Street NW., Washington, DC 20503, Attention: FRA Desk Officer. Comments may also be sent via email to OMB at the following address: oira_submissions@omb.eop.gov.

FOR FURTHER INFORMATION CONTACT: Ms. Kim Toone, Information Collection Clearance Officer, Office of Administration, Office of Information Technology, RAD-20, Federal Railroad Administration, 1200 New Jersey Avenue SE., Mail Stop 35, Washington, DC 20590 (Telephone: (202) 493-6132). (This telephone number is not toll free.)

SUPPLEMENTARY INFORMATION: The PRA, 44 U.S.C. 3501-3520, and its implementing regulations, 5 CFR part 1320, require Federal agencies to issue two notices seeking public comment on information collection activities before OMB may approve paperwork packages. 44 U.S.C. 3506, 3507; 5 CFR 1320.5, 1320.8, and 1320.10. On April 18, 2017, FRA published a 60-day notice in the Federal Register requesting comments on the ICR for which it is now seeking OMB approval. See 82 FR 18341. FRA received no comments in response to that notice.

Before OMB decides whether to approve this proposed collection of information, it must provide 30 days for public comment. 44 U.S.C. 3507(b); 5 CFR 1320.10. Federal law requires OMB to approve or disapprove paperwork packages between 30 and 60 days after the 30-day notice is published. 44 U.S.C. 3507(b)-(c); 5 CFR 1320.10; see also 60 FR 44978, 44983, Aug. 29, 1995. OMB believes the 30-day notice informs the regulated community to file relevant comments and affords the agency adequate time to digest public comments before it renders a decision. 60 FR 44983. Therefore, respondents should submit their comments to OMB within 30 days of publication to best ensure having their full effect.

The summary below describes the ICR and its expected burden. FRA is submitting the new request for clearance by OMB as the PRA requires.

Title: Information and Communications Technology Needs Assessment.

OMB Control Number: 2130-XXXX.

Abstract: The purpose of this information collection is to conduct a needs assessment that will provide information about how the railroading worker population uses information and communications technology (ICT). FRA periodically conducts such assessments of the social, legal, and policy barriers related to its mission. For purposes of this study, ICT is defined as technology and tools that people use to share, distribute, and gather information, and to communicate with one another, one on one, or in groups. FRA uses ICT to disseminate research findings and to increase awareness of safety education programs and other FRA sponsored innovation projects. The data gathered in this study will help FRA and DOT attain the strategic goal of improving safety in transportation by providing information that will improve and inform their strategic communication dissemination efforts to reach the railroading population more efficiently and successfully.

The proposed study is a needs assessment designed to understand the current state of railroading industry use and application of ICT. As such, this study asks broad questions about ICT. The main objectives of this study are to: (1) Determine how Transportation, Yard and Engineer railroaders use ICT; (2) identify ways to reach this population with future ICT-based education and communication efforts; and (3) develop baseline awareness data for FRA's research, development and technology programs.

Affected Public: Railroad Union Members.

Form(s): FRA Form 6180.169.

Total Estimated Annual Responses: 1,553.

Total Estimated Annual Burden: 511 hours.

Comments are invited on the following: Whether the proposed collection of information is necessary for FRA to properly perform its functions, including whether the information will have practical utility; the accuracy of FRA's estimates of the burden of the proposed information collections; ways to enhance the quality, utility, and clarity of the information to be collected; and ways to minimize the burden of the collections of information on respondents, including the use of automated collection techniques or other forms of information technology.

A comment to OMB is best assured of having its full effect if OMB receives it within 30 days of publication of this notice in the Federal Register.

Authority: 44 U.S.C. 3501-3520.

Sarah L. Inderbitzin,
Acting Chief Counsel.

[FR Doc. 2017-15053 Filed 7-17-17; 8:45 am]

BILLING CODE 4910-06-P